DEPARTMENT OF COMMERCE

International Trade Administration

[A-570-601]

Tapered Roller Bearings and Parts Thereof, Finished and Unfinished, From the People's Republic of China: Initiation of New Shipper Antidumping Duty Reviews

AGENCY: Import Administration, International Trade Administration, Department of Commerce.

ACTION: Notice of initiation of new shipper antidumping duty reviews.

SUMMARY: The Department of Commerce has received two requests to conduct new shipper reviews of the antidumping duty order on tapered roller bearings and parts thereof, finished and unfinished, from the People's Republic of China. In accordance with section 751(a)(2)(B) of the Tariff Act of 1930, as amended, and 19 CFR 351.214, we are initiating these new shipper reviews.

EFFECTIVE DATE: January 31, 2001.

FOR FURTHER INFORMATION CONTACT: Jarrod Goldfeder or Melani Miller, Import Administration, International Trade Administration, U.S. Department of Commerce, 14th Street and Constitution Avenue, NW, Washington, DC 20230; telephone (202) 482-0189 or (202) 482-0116, respectively.

Applicable Statute and Regulations

Unless otherwise indicated, all citations to the Tariff Act of 1930, as amended (“the Act”), are references to the provisions effective January 1, 1995, the effective date of the amendments made to the Act by the Uruguay Round Agreements Act. In addition, all references to the Department of Commerce's (“the Department's”) regulations are to 19 CFR Part 351 (April 2000).

SUPPLEMENTARY INFORMATION:

Background

On December 28 and December 29, 2000, the Department received separate requests from Peer Bearing Company—Changshan (“CPZ”) and Yantai Timken Company Limited (“Yantai Timken”), respectively, pursuant to section 751(a)(2)(B) of the Act, and in accordance with 19 CFR 351.214, for new shipper reviews of the antidumping duty order on tapered roller bearings and parts thereof, finished and unfinished (“TRBs”), from the People's Republic of China (“PRC”). This order has a December semi-annual anniversary month.

Initiation of Review

In accordance with 19 CFR 351.214(b)(2), CPZ and Yantai Timken each provided certification that (1) they did not export subject merchandise to the United States during the period of investigation (“POI”); (2) that, since the investigation was initiated, they never have been affiliated with any exporter or producer who exported the subject merchandise to the United States during the POI, including those not individually examined during the investigation; and (3) that their export activities are not controlled by the central government. Also, in accordance with 19 CFR 351.214(b)(2), CPZ and Yantai Timken submitted documentation establishing (1) the date on which their TRBs were first entered, or withdrawn from warehouse, for consumption, or if the exporter or producer could not establish the date of first entry, the date on which they first shipped the subject merchandise for export to the United States; (2) the volume of those and subsequent shipments; and (3) the dates of the first sales to unaffiliated customers in the United States.

Therefore, in accordance with section 751(a)(2)(B) of the Act and 19 CFR 351.214, we are initiating new shipper reviews of the antidumping duty order on TRBs from the PRC. In accordance with 19 CFR 351.214(h)(i), we intend to issue the preliminary results of these reviews not later than 180 days from the date of publication of this notice. All provisions of 19 CFR 351.214 will apply to CPZ and to Yantai Timken throughout the duration of these new shipper reviews.

The standard period of review (“POR”) in a new shipper review initiated in the month immediately following the semi-annual anniversary month is the six-month period immediately preceding the semi-annual anniversary month. Therefore, the POR for these new shipper reviews is June 1, 2000 through November 30, 2000.

Concurrent with publication of this notice, and in accordance with 19 CFR 351.214(e), we will instruct the Customs Service to suspend liquidation of any unliquidated entries of the subject merchandise from the relevant exporter or producer, and to allow, at the option of the importer, the posting, until the completion of the review, of a bond or security in lieu of a cash deposit for each entry of the subject merchandise exported by the companies listed above.

Interested parties must submit applications for disclosure under administrative protective orders in accordance with 19 CFR 351.305 and 351.306.

This initiation notice is in accordance with section 751(a) of the Act (19 U.S.C. 1675(a)) and 19 CFR 351.214.

Dated: January 24, 2001.
Richard W. Moreland,
Deputy Assistant Secretary for Import Administration.

[FR Doc. 01-2682 Filed 1-30-01; 8:45 am]

BILLING CODE 3510-DS-P